DEPARTMENT OF ENERGY

Federal Energy Regulatory Commission

[Docket Nos. ER05-1410-000; and EL05-148-000]

PJM Interconnection, LLC; Supplemental Notice of Commission Technical Conference

January 19, 2006.

As announced in the Notice of Commission Technical Conference issued on December 8, 2005, the Commission will hold a technical conference on February 3, 2006 at the Federal Energy Regulatory Commission, 888 First Street, NE., Washington, DC, on the matters raised by the Reliability Pricing Model (RPM) filed in the above-captioned dockets by PJM Interconnection, LLC (PJM). This supplemental notice provides additional information and an agenda for the conference. Members and staff of the Federal Energy Regulatory Commission are expected to participate. The conference will be open for the public to attend. The conference will be held in the Commission Meeting Room, with overflow to Hearing Room One.

The conference will be transcribed. A transcript of the conference will be immediately available from Ace Reporting Company (202) 347-3700 or (800) 336-6646 for a fee. It will be available for the public on the Commission's eLibrary system seven calendar days after FERC receives the transcript.

A free webcast of this event is available through http://www.ferc.gov. Anyone with Internet access who wishes to view this event may do so by navigating to http://www.ferc.gov's Calendar of Events and locating this event in the Calendar. The event will contain a link to its webcast. The Capitol Connection provides technical support for the webcasts. It also offers access to this event via television in the Washington, DC area and via phone bridge for a fee. Visit http://www.CapitolConnection.org, or contact Danelle Perkowski or David Reininger at the Capitol Connection (703) 993-3100 for information about this service.

FERC conferences are accessible under section 508 of the Rehabilitation Act of 1973. For accessibility accommodations please send an e-mail to accessibility@ferc.gov or call toll free 866-208-3372 (voice) or 202-208-1659 (TTY), or send a FAX to 202-208-2106 with the required accommodations.

For further information regarding this conference, contact John McPherson at John.McPherson@ferc.gov or Katherine Waldbauer at Katherine.Waldbauer@ferc.gov.

Magalie R. Salas,
Secretary.

Reliability Pricing Model in PJM Commission Technical Conference Agenda ¹

February 3, 2006.

¹ Both this schedule and the list of panelists may change. The Commission will issue a further notice of such changes if time permits.

Welcome from Chairman Joseph T. Kelliher:

10 a.m.-10:15 a.m.

Introduction:

10:15 a.m.-10:45 a.m.

The Commission requests that PJM present a brief factual overview of PJM's current infrastructure. This presentation will include information regarding location, age and efficiency of generation, transmission constraints, proposed new transmission construction, demand response and new generation projects as they relate to PJM's current and forecasted reliability needs. The Commission further requests that PJM summarize the main components of RPM. (A representative of PJM will be present during each subsequent panel to answer questions, but PJM will not make any further independent presentation.)

PJM Interconnection, LLC: Audrey A. Zibelman, Executive Vice President & Chief Operating Officer, and Andrew L. Ott, Vice President—Markets.

Panel 1:

10:45 a.m.-1 p.m.

Whether the current capacity obligation construct within PJM's market design provides for just and reasonable wholesale power prices in the PJM footprint, at levels that provide adequate assurance that necessary resources will be provided to assure reliability, or whether changes must be made to that capacity obligation construct.

Dayton Power and Light Company: Gary Stephenson, Vice President, Commercial Operations.

Edison Mission Companies: Reem Fahey, Vice President, Market Policy.

Exelon Corporation: John F. Young, Executive Vice President, Finance and Markets and Chief Financial Officer.

FirstEnergy Service Company: Michael R. Beiting, Associate General Counsel.

Public Utilities Commission of Ohio: Hon. Alan R. Schriber, Chair.

Pennsylvania Public Utility Commission: Andrew S. Tubbs, Counsel.

Maryland Office of People's Counsel: William Fields, Senior Assistant People's Counsel.

Lunch

1 p.m.-2 p.m.

Panel 2:

2 p.m.-3:30 p.m.

Whether PJM's RPM proposal would provide for just and reasonable wholesale power prices in the PJM footprint, at levels that provide adequate reliability, or whether changes must be made to the proposal to meet those goals.

PSEG Companies: Gary R. Sorenson, Managing Director, Energy Operations, PSEG Power LLC.

Reliant Energy, Inc.: Neal A. Fitch, Senior Regulatory Specialist.

Mirant Parties/NRG Companies/Williams: Robert B. Stoddard, Vice President, Charles River Associates, International.

Constellation Energy Group: Marjorie R. Philips, Vice President, Regulatory Affairs.

National Grid USA: Mary Ellen Paravalos, Director of Regulatory Policy.

PJM Industrial Customer Coalition: Robert A. Weishaar, McNees, Wallace and Nurick, LLC.

New Jersey Board of Public Utilities: Hon. Frederick T. Butler, Commissioner.

Virginia Office of the Attorney General: Seth W. Brown, Manager of Transmission Services, GDS Associates, Inc.

Panel 3:

3:30 p.m.-4:45 p.m.

Whether an alternative approach to RPM is necessary to ensure just and reasonable wholesale power prices in the PJM footprint.

American Electric Power Service Co.: J. Craig Baker, Senior Vice President, Regulatory Services.

Morgan Stanley Capital Group Inc.: James Sheffield, Vice President.

Coalition of Consumers for Reliability: Edward D. Tatum, Jr., Assistant Vice President, Rates and Regulation, Old Dominion Electric Cooperative (ODEC).

PPL Parties: Thomas Hyzinski, Manager, ISO Markets Development and Regulatory Policy.

Delaware Public Service Commission: Hon. Arnetta McRae, Chair.

Closing remarks by Chairman Joseph T. Kelliher:

4:45 p.m.-5 p.m.

Each panelist should provide a presentation of no more than five minutes, and the Commissioners may ask questions at the conclusion of each presentation. If time permits, the audience may also ask questions of the panelists at the conclusion of the Commissioners' questions. Panelists wishing to distribute copies of their presentation should bring 100 or more hard copies to the conference for distribution. Any such presentation will be placed into the record for these dockets. Any panelist requiring particular software or other technical facilities for a presentation should contact FERC staff no later than January 27, 2006. All parties to this proceeding may file comments on the technical conference by close of business on February 23, 2006.

[FR Doc. E6-953 Filed 1-25-06; 8:45 am]

BILLING CODE 6717-01-P